DEPARTMENT OF AGRICULTURE

Forest Service

Withdrawal of the Northern Regional Guide and the Transfer of Decisions Therein to the Regional Supplement to the Forest Service Directive System

AGENCY: Forest Service, USDA.

ACTION: Notice.

SUMMARY: The intended effect of this action is to comply with 36 CFR part 219 section 219.35(e) which directs that within 1 year of November 9, 2000, the Regional Forester must withdraw the Regional Guide. When a Regional Guide is withdrawn, the Regional Forester must identify the decisions in the Regional Guide that are to be transferred to a regional supplement of the Forest Service directive system (36 CFR 200.4) or to one or more plans and give notice in the Federal Register of these actions.

DATES: This action will be effective November 5, 2001.

FOR FURTHER INFORMATION CONTACT: Richard Anderson; Land Management Planner; Northern Region; P.O. Box 7669; Missoula, Montana 59807. Phone: (406) 329-3647.

SUPPLEMENTARY INFORMATION: This action accomplishes withdrawal of the Northern Regional Guide and the transfer of decisions therein to the regional supplement to the Forest Service Directive System. This action revises FSM 2400 Region 1 Supplement No. 2400-96-3 to address the size of harvest openings, which is required by the National Forest Management Act. This continues the limitation, currently contained in the Regional Guide, on the size of harvest openings to 40-acres or less without Regional Forester approval and 60-day public review.

This action also adds a correction into the Region 1 Planning Supplement Chapter 1920 from the Regional Guide two RARE II inventoried roadless areas which were inadvertently omitted from the Guide (the Big Snowies and Middle Fork Judith on the Lewis and Clark National Forest) for further study in the Forest Planning process. Additionally, this action moves direction regarding Natural Areas from the Regional Guide to the regional supplement of the Forest Service manual. This is accomplished by: (1) Incorporating into the Region 1 Planning Supplement Chapter 1920 formal approval by the Regional Forester of the revised Research Natural Area targets, as outlined in the Research Natural Areas of the Northern Region: Status and Needs Assessment which in 1996 updated the Regional Guide direction for Research Natural Areas; and (2) incorporating the process currently contained in the Regional Guide for the identification and designation of Regional Research Natural Area's.

Dated: October 31, 2001.
Kathleen A. McAllister,
Acting Regional Forester.

[FR Doc. 01-29334 Filed 11-23-01; 8:45 am]

BILLING CODE 3410-11-M